DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting for October 24-26, 2005, at the Department of Veterans Affairs Medical Center, 4801 Linwood Blvd., Kansas City, Missouri. The meeting will be held at each day in the medical center's recreation room from 9 a.m. to 4:30 p.m. The meeting is open to the public.

The purpose of the Committee is to advise the Secretary of Veterans Affairs on the administration of benefits under Title 38, United States Code, for veterans who are former prisoners of war, and to make recommendations on the needs of such veterans for compensation, health care, and rehabilitation.

On October 24, the meeting will begin with an introduction of Committee members, remarks from dignitaries, and a review of Committee reports. The afternoon session will consist of an update of activities since the last meeting and time for FPOW veterans and the public to address the Committee. The agenda on October 25 will include a review of VA's Compensation and Pension Service activities, focusing on outreach initiatives to FPOWs about the new presumptive medical conditions of heart disease and the residuals of stroke. The Committee will then receive a progress report on the development of special designations of FPOW records at VA medical facilities. The Committee will also receive a presentation from the Robert E. Mitchell, Center for Prisoner of War Studies. The day will conclude with new business and general discussion. On October 26, the Committee's medical and administrative work groups will meet to discuss their activities and report back to the Committee. Then the Committee will review the issues discussed throughout the meeting to compile a report to be sent to the Secretary.

Members of the public may direct questions or submit written statements for review by the Committee in advance of the meeting to Ms. Renée L. Szybala, Director, Compensation and Pension Service (21), Department of Veterans Affairs, 810 Vermont Avenue, NW., Washington, DC 20420. Submitted materials must be received by October 15, 2005.

Dated: September 19, 2005.
By direction of the Secretary.
E. Philip Riggin,
Committee Management Officer.

[FR Doc. 05-19282 Filed 9-26-05; 8:45 am]

BILLING CODE 8320-01-M